DEPARTMENT OF DEFENSE

Office of the Secretary

[Docket ID: DoD-2013-OS-0205]

Privacy Act of 1974; System of Records

AGENCY: Office of the Secretary of Defense, DoD.

ACTION: Notice to alter a System of Records.

SUMMARY: The Office of the Secretary of Defense proposes to alter a system of records, DoDEA 27, entitled “Department of Defense Education Activity Research Approval Process”, in its inventory of record systems subject to the Privacy Act of 1974, as amended. This system will collect, validate eligibility, and maintain an official registry file that identifies individuals who apply for, and are granted, access to conduct research involving DoDEA students, staff, parents or data. Additionally will establish researcher accountability, enable future contact with researchers, and support preparation of statistical and other aggregate reports on researcher use of DoDEA records.

DATES: This proposed action will be effective on November 26, 2013 unless comments are received which result in a contrary determination. Comments will be accepted on or before November 25, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site http://dpclo.defense.gov/privacy/SORNs/component/osd/index.html. The proposed system report, as required by U.S.C. 552a(r) of the Privacy Act of 1974, as amended, was submitted on September 30, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 21, 2013.
Aaron Siegel,
Alternate OSD Federal Register Liaison Officer, Department of Defense.

DoDEA 27

System name:

Department of Defense Education Activity Research Approval Process (May 9, 2007, 72 FR 26342).

Changes:

* * * * *

System location:

Delete entry and replace with “Department of Defense Education Activity, 4800 Mark Center Drive, Alexandria, VA 22350-1400.”

* * * * *

Authority for maintenance of the system:

Delete entry and replace with “10 U.S.C. 113, Secretary of Defense; 10 U.S.C. 2164, Department of Defense, Domestic Dependent Elementary and Secondary Schools; and 20 U.S.C. 921-932, Overseas Defense Dependents' Education.”

Purpose(s):

Delete entry and replace with “To collect, validate eligibility, and maintain an official registry file that identifies individuals who apply for, and are granted, access to conduct research involving DoDEA students, staff, parents or data.

To establish researcher accountability, enable future contact with researchers, and support preparation of statistical and other aggregate reports on researcher use of DoDEA records.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

The DoD Blanket Routine Uses set forth at the beginning of the Office of the Secretary of Defense (OSD) compilation of systems of records notices may apply to this system.”

Policies and practices for storing, retrieving, accessing, retaining, and disposing of records in the system:

Storage:

Delete entry and replace with “Paper file folders and electronic storage media.”

* * * * *

Retention and disposal:

Delete entry and replace with “Records are destroyed or deleted when two (2) years old, or two (2) years after the date of the latest entry, whichever is applicable.”

System manager(s) and address:

Delete entry and replace with “Chief, Office of Research and Evaluation, Education Directorate, Department of Defense Education Activity, 4800 Mark Center Drive, Alexandria, VA 22350-1400.”

Notification procedure:

Delete entry and replace with “Individuals seeking to determine whether information about themselves is contained in this system of records should address written inquiries to the Privacy Act Officer, Department of Defense Dependents Schools, 4800 Mark Center Drive, Alexandria, VA 22350-1400.

Signed, written requests should contain the individual's name and address.”

Record access procedures:

Delete entry and replace with “Individuals seeking access to information about themselves contained in this system of records should address written inquiries to the Department of Defense Education Activity Freedom of Information Act Requester Service Center, 4800 Mark Center Drive, Alexandria, VA 22305-1400. Signed, written requests should contain the individual's name and address and the name and number of this System of Records Notice.”

* * * * *

[FR Doc. 2013-25000 Filed 10-23-13; 8:45 am]

BILLING CODE 5001-06-P